ENVIRONMENTAL PROTECTION AGENCY

[FRL-6550-3]

Proposed Administrative Penalty Assessments and Opportunity to Comment

AGENCY: Environmental Protection Agency.

ACTION: Notice of proposed assessment of Clean Water Act Class I Administrative Penalty and opportunity to comment.

SUMMARY: EPA is providing notice of a proposed administrative penalty for an alleged violation of the Clean Water Act. EPA is also providing notice of opportunity to comment on the proposed penalty.

EPA is authorized under section 309(g) of the Act, 33 U.S.C. 1319(g), to assess a civil penalty after providing the person subject to the penalty notice of the proposed penalty and the opportunity for a hearing, and after providing interested persons notice of the proposed penalty and a reasonable opportunity to comment on its issuance. Under section 309(g), any person who has violated the conditions of a National Pollutant Discharge Elimination System permit may be assessed a penalty in a “Class I” administrative penalty proceeding. Class I proceedings under section 309(g) are conducted in accordance with consolidated rules of practice governing the administrative assessment of civil penalties, 40 CFR part 22.

EPA is providing notice of the following Class I penalty proceeding:

In the Matter of Albert Goyenetche, Docket No. CWA-9-2000-0002; Complainant, Thomas Huetteman, Chief, Clean Water Act Compliance Office (WTR-7), Water Division, U.S. EPA, Region 9, 75 Hawthorne St., San Francisco, CA 94105; Respondent, Mr. Albert Goyenetche, Goyenetche Dairy, 16130 S. Euclid Avenue, Chino, CA 91710; filed February 11, 2000; seeking a penalty of up to $11,000 for discharge from Goyenetche Dairy on April 14, 1999, to a manmade ditch which flows to Prado Flood Control Basin, in violation of “General Discharge Requirements for Concentrated Animal Feeding Operations, including Dairies, within the Santa Ana Region”, NPDES No. CAG018001.

Procedures by which the public may comment on a proposed Class I penalty or participate in a Class I penalty proceeding are set forth in the consolidated rules. A commenter may present written comments for the record at any time prior to the close of the record.

FOR FURTHER INFORMATION CONTACT: Persons wishing to receive a copy of the consolidated rules, review the complaint or other documents filed in the proceeding, or comment or participate in the proceeding, should contact Danielle Carr, Regional Hearing Clerk, U.S. EPA, Region 9, 75 Hawthorne St., San Francisco, CA 94105, (415) 744-1391. Documents filed as part of the public record in the proceeding are available for inspection during business hours at the office of the Regional Hearing Clerk.

Dated: March 1, 2000.
Thomas Huetteman,
Chief, Clean Water Act Compliance Office, Water Division.

[FR Doc. 00-5933 Filed 3-9-00; 8:45 am]

BILLING CODE 6560-50-P